DEPARTMENT OF AGRICULTURE

Natural Resources Conservation Service

Notice of Proposed Changes in the National Handbook of Conservation Practices.

AGENCY: Natural Resources Conservation Service, USDA.

ACTION: Notice and request for comments.

SUMMARY: Notice is hereby given of the intention of the Natural Resources Conservation Service (NRCS) to issue a series of new or revised conservation practice standards in its National Handbook of Conservation Practices. These standards include: Anaerobic Digester, Ambient Temperature; Anaerobic Digester, Controlled Temperature; Composting Facility; Constructed Wetland; Fish Raceway or Tank; Hedgerow Planting; Irrigation Water Management; Land Clearing; Land Reconstruction, Abandoned Mined Land; Land Reconstruction, Currently Mined Land; Monitoring Well; Mulching; Pasture and Hayland Planting; Residue Management, Mulch Till; Residue Management, No Till/Strip Till; Residue Management, Ridge Till; Residue Management, Seasonal; Riparian Forest Buffer; Sediment Basin; Spoil Spreading; Stream Habitat Improvement and Management; Tree/Shrub Establishment; Tree/Shrub Pruning; Upland Wildlife Habitat Management; Waste Facility Cover; Waste Storage Facility; Waste Treatment Lagoon; Waste Utilization; Wetland Creation; Wetland Enhancement; Wetland Restoration; Wetland Wildlife Habitat Management; Windbreak/Shelterbelt Establishment; and Windbreak/Shelterbelt Renovation. These standards are used to convey national guidance in developing Field Office Technical Guide Standards used in the States and the Pacific Basin and Caribbean areas. NRCS State Conservationists and Directors for the Pacific Basin and Caribbean areas who choose to adopt these practices for use within their States/areas will incorporate them into Section IV of their Field Office Technical Guide. These practices may be used in resource management systems that treat highly erodible land, or on land determined to be wetland.

EFFECTIVE DATES: Comments will be received on or before May 29, 2003. This series of new or revised conservation practice standards will be adopted after the close of the 30-day period.

FOR FURTHER INFORMATION CONTACT: Single copies of these standards are available from NRCS-CED in Washington, DC. Please submit individual inquiries and return any comments, in writing, to William Hughey, National Agricultural Engineer, Natural Resources Conservation Service, Post Office Box 2890, Room 6139-S, Washington, DC 20013-2890. The telephone number is (202) 720-5023. The standards are also available, and can be downloaded from the Internet, at: http://www.ftw.nrcs.usda.gov/practice_stds.html.

SUPPLEMENTARY INFORMATION: Section 343 of the Federal Agriculture Improvement and Reform Act of 1996 requires NRCS to make available, for public review and comment, proposed revisions to conservation practice standards used to carry out the highly erodible land and wetland provisions of the law. For the next 30 days, NRCS will receive comments on the proposed changes. Following that period, a determination will be made by NRCS regarding disposition of those comments, and a final determination of change will be made.

Signed in Washington, DC, on April 3, 2003.
Bruce I. Knight,
Chief, Natural Resources Conservation Service.

[FR Doc. 03-10546 Filed 4-28-03; 8:45 am]

BILLING CODE 3410-16-P